DEPARTMENT OF THE INTERIOR

National Park Service

[NPS-WASO-NAGPRA-20581; PPWOCRADN0-PCU00RP14.R50000]

Notice of Inventory Completion: U.S. Department of Defense, Army Corps of Engineers, Omaha District, Omaha, NE., and State Archaeological Research Center, Rapid City, SD

AGENCY: National Park Service, Interior.

ACTION: Notice.

SUMMARY: The U.S. Army Corps of Engineers, Omaha District (Omaha District), has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Omaha District. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Omaha District at the address in this notice by May 5, 2016.

ADDRESSES: Ms. Sandra Barnum, U.S. Army Engineer District, Omaha, ATTN: CENWO-PM-AB, 1616 Capital Avenue, Omaha, NE 68102, telephone, (402) 995-2674, email sandra.v.barnum@usace.army.mil.

SUPPLEMENTARY INFORMATION: Notice is hereby given in accordance with the Native American Graves Protection and Repatriation Act (NAGPRA), 25 U.S.C. 3003, of the completion of an inventory of human remains and associated funerary objects under the control of the Omaha District. The human remains and associated funerary objects were removed from four sites in South Dakota—site 39SL45 (Ft. Sully II) in Sully County; site 39ST15 in Stanley County; site 39WW89, Walworth County; and an unidentified site in Potter County.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and associated funerary objects was made by State Archaeological Research Center and Omaha District professional staff in consultation with representatives of the Three Affiliated Tribes of the Fort Berthold Reservation, North Dakota.

History and Description of the Remains

In 1971 or 1972, human remains representing, at minimum, one individual were removed from site 39SL45, Fort Sully II in Sully County, SD. They are presently located at the South Dakota State Archaeological Research Center (SARC) and are under the control of the Omaha District.

A human cranium and mammal bones were discovered in a storage unit in Hughes County, SD, in September 2001, and turned over to the County Sheriff's office. The human remains were determined to be of archeological origin and transported to SARC. It was established that the human remains were removed by a private citizen while diving in the Missouri River near Old Fort Sully (39SL45) in 1971 or 1972. Fort Sully II was an active U.S. Army post between 1866 and 1894, and just south of the post were two multicomponent village sites, Fort Sully Village (36SL4) and the Glasshoff site (39SL42). It is possible the skull originated from one of the two village sites. Based on morphological characteristics consistent with a Plain Village population, the human remains are determined to be Native American. No known individual was identified. The 6 associated funerary objects are mammal bone fragments.

Site 39SL4 was occupied during the Extended (A.D. 1500-1675) and Post Contact (A.D. 1675-1780) Coalescent variants of the Plans Village tradition. Site 39SL42 was occupied during the Extended Middle Missouri variant (A.D. 1000-1500). Archeological, physical anthropological, geographical, and ethnographic evidence indicates that the Extended Coalescent and Post Contact Traditions are ancestral Arikara. Archeological, geographical, and physical anthropological evidence suggests that the Extended Middle Missouri variant is ancestral to the Mandan. Both the Arikara and Mandan are represented today by the Three Affiliated Tribes of the Fort Berthold Reservation.

In 1984 and 1985, human remains representing, at minimum, three individuals were removed from site 39ST15, Indian Creek Village in Stanley County, SD. They are presently located at the SARC and are under the control of the Omaha District.

During excavation, three isolated teeth, representing three individuals, were removed from the Indian Creek Village Site, 39ST15, but were not identified as human at that time. The collections from the site were at the Archeology Laboratory, Augustana College, Sioux Falls, until 1995, when they were transferred to SARC. In 1997, the teeth were identified as human. Associated records indicate that teeth were found in features within two separate houses at the site. Based on the archeological context, the human remains are determined to be Native American. No known individuals were identified. No associated funerary objects are present.

Three variants of the Plains Village Tradition are represented at the multicomponent earth lodge village site 39ST15—Extended Middle Missouri (A.D. 1000-1500), Extended (A.D. 1500-1675), and Post Contact Coalescent (A.D. 1675-1780). Individual 1 is mostly likely associated with the Extended Middle Missouri component, and Individuals 2 and 3 are most likely associated with the Post Contact Coalescent component. Archeological, physical anthropological, historical, ethnographic, and geographical evidence support that Middle Missouri as being ancestral to the Mandan, and the Post Contact Coalescent as being ancestral to the Arikara. Both the Arikara and Mandan are represented today by the Three Affiliated Tribes of the Fort Berthold Reservation.

In 1979 and 1982, human remains representing, at minimum, three individuals were removed from site 39WW89 in Walworth County, SD. They are presently located at the SARC and are under the control of the Omaha District.

The human remains were removed during two separate investigations. In 1979, the University of Nebraska, Lincoln, surveyed the east shore of Lake Oahe and removed human bone fragments representing two individuals, along with a single lithic flake from the surface. In 1982, Augustana College, Sioux Falls, conducted test excavations at the site and removed the human remains of three individuals and two associated funerary objects; human remains from two of the individuals removed in 1982 were determined to be portions of the individuals removed in 1979. The collection was transferred to SARC in 1984, and the human remains were inventoried by the University of Tennessee, Knoxville, and then reburied in 1991, near Ft. Pierre, SD. In 1999, the human remains from the Augustana College investigation and all the associated funerary objects were located by SARC in their collections. Based on the archeological context and associated funerary objects, the human remains are determined to be Native American. No known individuals were identified. The 3 associated funerary objects are 1 lithic tool and 2 lithic flakes.

Based on radiometric dating, the site was used between A.D. 1400-1560, a time period that includes two archeologically defined components, the Extended Middle Missouri (A.D. 1000-1500) and the Extended Coalescent (A.D. 1500-1675) variants of the Plan Village Tradition. Based on architecture, artifact types, geographical location, and physical anthropological data, the Extended Middle Missouri populations are ancestral Mandan and the Extended Coalescent are ancestral Arikara. Both the Mandan and the Arikara are represented today by the Three Affiliated Tribes of the Fort Berthold Reservation.

In 1963, human remains representing, at minimum, 1 individual were removed from an unidentified site in Potter County, SD. They are presently located at the SARC and are under the control of the Omaha District.

In April 1999, a human skull was donated to the Nebraska State Historical Society, Lincoln. The skull was reported to be removed along the Missouri River near Gettysburg, SD. After transfer to SARC in 1999, and review of the documentation and topographic maps, the human remains were determined to have originated from Omaha District property. Based on morphological characteristics the skull is determined to be Native American. No known individual was identified. No associated funerary objects are present.

The morphological characteristics of the cranium are indicative of Arikara ancestry. Additionally, the Arikara generally practiced primary inhumation and the crania exhibits evidence of such a burial method (soil adherence and root etchings, along with lack of weathering). Ethnographic and historic records indicate Arikara villages were located in Potts County during the Extended (A.D. 1500-1675) and Post Contact Coalescent (A.D. 1675-1780). Based on the archeological, physical anthropological, and geographic evidence, the skull is affiliated with the Arikara. The Arikara are represented today by the Three Affiliated Tribes of the Fort Berthold Reservation.

Determinations Made by the Omaha District

Officials of the Omaha District have determined that:

• Pursuant to 25 U.S.C. 3001(9), the human remains described in this notice represent the physical remains of eight individuals of Native American ancestry.

• Pursuant to 25 U.S.C. 3001(3)(A), the nine objects described in this notice are reasonably believed to have been placed with or near individual human remains at the time of death or later as part of the death rite or ceremony.

• Pursuant to 25 U.S.C. 3001(2), there is a relationship of shared group identity that can be reasonably traced between the Native American human remains and associated funerary objects and the Three Affiliated Tribes of the Fort Berthold Reservation, North Dakota.

Additional Requestors and Disposition

Lineal descendants or representatives of any Indian tribe or Native Hawaiian organization not identified in this notice that wish to request transfer of control of these human remains and associated funerary objects should submit a written request with information in support of the request to Ms. Sandra Barnum, U.S. Army Engineer District, Omaha, ATTN: CENWO-PM-AB, 1616 Capital Avenue, Omaha, NE 68102, telephone, (402) 995-2674, email sandra.v.barnum@usace.army.mil, by May 5, 2016. After that date, if no additional requestors have come forward, transfer of control of the human remains and associated funerary objects to the Three Affiliated Tribes of the Fort Berthold Reservation, North Dakota, may proceed.

The Omaha District is responsible for notifying the Three Affiliated Tribes of the Fort Berthold Reservation, North Dakota, that this notice has been published.

Dated: March 10, 2016.
Melanie O'Brien,
Manager, National NAGPRA Program.

[FR Doc. 2016-07771 Filed 4-4-16; 8:45 am]

BILLING CODE 4312-50-P